DEPARTMENT OF HEALTH AND HUMAN SERVICES

Centers for Disease Control and Prevention

[60Day-22-1338; Docket No. CDC-2022-0106]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled, Evaluation of the Effectiveness of the Training and Education Modules in the North American Fatigue Management Program. This is an observational study evaluating 180 long-haul and regional truck drivers in a naturalistic driving study over eight months, using questionnaires, in-vehicle monitor system, Actigraphy devices, and smartphones for data collection.

DATES: CDC must receive written comments on or before November 14, 2022.

ADDRESSES: You may submit comments, identified by Docket No. CDC-2022-0106 by any of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all Federal comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of the Effectiveness of the Training and Education Modules in the North American Fatigue Management Program (OMB Control No. 0920-1338, Exp. 06/30/2023)—Extension—National Institute for Occupational Safety and Health (NIOSH), Centers for Disease Control and Prevention (CDC).

Background and Brief Description

The mission of the National Institute for Occupational Safety and Health (NIOSH) is to promote safety and health at work for all people through research and prevention. Reducing fatigue-related crashes is one of the top 10 changes needed to reduce transportation accidents and save lives identified by the National Transportation Safety Board (NTSB) and a National Occupational Research Agenda (NORA) priority.

Fatigue is a preventable cause of truck crashes. The North American Fatigue Management Program (NAFMP) was developed by the Federal Motor Carrier Safety Administration, Transport Canada, and other entities to address commercial motor vehicle (CMV) driver fatigue through a comprehensive approach that delivers prevention information to carriers, dispatchers, drivers, and family members. In 2015, the National Academy of Sciences published the report “Commercial motor vehicle driver fatigue, long-term health, and highway safety research needs” that identified the need for fully evaluating the NAFMP so that recommendations for implementation of NAFMP are supported by scientific evidence. NIOSH is collaborating with the Federal Motor Carrier Safety Administration (FMCSA) to ensure the success of the proposed study. NIOSH is requesting an extension to account for the additional time necessary to recruit more respondents.

Data will be collected from CMV drivers (hereafter referred to as “driver”) during their application to participate in the study, briefing session, study participation, and debriefing session. Data collection will primarily focus on driving performance, sleep, and sleepiness. These outcomes will be compared between pre-rollout of the NAFMP (in which drivers will operate as they did before their participation in the study) and post-rollout of the NAFMP training and education modules (in which drivers and managers will operate with increased knowledge, strategies, and techniques to reduce their fatigue). All drivers interested in participating in the study may complete the application. A briefing session will be scheduled with drivers who are found eligible for the study. During the briefing session, drivers who provide informed consent will be enrolled in the study. Drivers will have a debriefing session if a driver chooses to withdraw from the study early or upon completion of the eight-month participation period.

The sample of drivers in the study will include those employed as drivers at the participating carriers. A convenience sample of 180 eligible drivers who have a valid Class-A commercial driver's license (CDL) and work at the participating company in regional and long-haul operations for at least one year will be eligible for the study. The study sample will include approximately 90 regional and 90 long-haul drivers. There will be no required minimum number of female or minority drivers to be included.

Data will be collected during each phase: (1) In the application, drivers will be asked to provide their name and contact information (home address, telephone number, and email address) to allow contact from the research team regarding their eligibility for the study; (2) In the briefing session, drivers will be asked to complete the Background Questionnaire; and (3) During the study, information collection will occur through several streams: (a) real-time fatigue monitoring system installed in the participating driver's vehicle; (b) smart phone apps to collect psychomotor vigilance test, Karolinska Sleepiness Scale, sleep log, difficulty of drive scale, degree of drive hazards scale, a fatigue scale, and a stress scale; (c) an electronic logging device to collect data on the driver's duty and driving; (d) a wrist actigraphy to collect data on driver sleep and wake times. Drivers will be asked to sync the actigraph with a smartphone app daily; (e) smartphone or web-based questionnaires including Exercise and Food Consumption Questionnaire, the Quality of Life short form 36 version-2 questionnaire (SF-36v2), Family Interactions Questionnaire, and Job Descriptive Index (these will be completed by drivers at four different intervals, including the beginning (first week) and middle (second month) of the baseline phase, and the middle (fifth month) and end (eighth month) of the intervention phase); (f) a questionnaire to assess corporate practices and corporate safety climate will be given to managers at the participating carriers (these will be completed by managers at the beginning (first week) of the study and end (eighth month) of the intervention phase); and (g) during the field study, carriers will be asked to provide information concerning crashes and roadside violations occurring during each driver's period of study participation. Administrative cost information (e.g., equipment, labor, etc.) will also be collected from the carrier to evaluate cost-benefit of the intervention.

CDC requests OMB approval for an estimated 5,278 annual burden hours. There is no cost to respondents other than their time to participate.

Estimated Annualized Burden Hours
Type of respondent | Form name | Number of respondents | Number of responses per respondent | Average burden per response (in hours) | Total burden (in hours)
Carrier Management | Participation Agreement | 1 | 1 | 1 | 1
| Retrieval of Company Monthly Roadside Violations/Crash Reports | 1 | 8 | 90/60 | 12
| Retrieval of Company Administrative Costs | 1 | 16 | 2 | 32
| Management Practice questionnaire (Time 1) | 5 | 1 | 45/60 | 4
| Management Practice questionnaire (Time 2) | 5 | 1 | 45/60 | 4
Drivers | Application to Participate | 150 | 1 | 12/60 | 30
| Actigraph Training | 90 | 1 | 10/60 | 15
| Background Questionnaire | 90 | 1 | 45/60 | 68
| Daily Smartphone Questions | 90 | 720 | 1/60 | 1,080
| PVT | 90 | 720 | 3/60 | 3,240
| Exercise and Food Consumption Questionnaire | 90 | 4 | 20/60 | 120
| SF-36v2 | 90 | 4 | 30/60 | 180
| Family Interactions Questionnaire | 90 | 4 | 15/60 | 90
| Safety Climate Questionnaire | 90 | 4 | 10/60 | 60
| Job Descriptive Index | 90 | 4 | 30/60 | 180
| Post-Study Questionnaire | 90 | 1 | 1 | 90
| Phone Briefings | 90 | 8 | 6/60 | 72
Total |  |  |  |  | 5,278

Jeffrey M. Zirger,
Lead, Information Collection Review Office, Office of Scientific Integrity, Office of Science, Centers for Disease Control and Prevention.

[FR Doc. 2022-19558 Filed 9-9-22; 8:45 am]

BILLING CODE 4163-18-P